DEPARTMENT OF HOUSING AND URBAN DEVELOPMENT

[Docket No. FR-7018-N-03]

60 Day Notice of Proposed Information Collection; Accountability in the Provision of HUD Assistance “Applicant/Recipient Disclosure/Update Report—HUD 2880”

AGENCY: Office of Strategic Planning and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 5, 2019.

ADDRESSES: Interested persons are invited to submit comments regarding this proposal. Comments should refer to the proposal by name and/or OMB Control Number and should be sent to Colette Pollard, Reports Management Officer, QDAM, Department of Housing and Urban Development, 451 7th Street SW, Room 4176, Washington, DC 20410-5000; telephone 202-402-3400 (this is not a toll-free number) or email at Colette.Pollard@hud.gov for a copy of the proposed form. Persons with hearing or speech impairments may access this number through TTY by calling the toll-free Federal Relay Service at (800) 877-8339.

Electronic Submission of Comments. Interested persons may also submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the methods specified above. Again, all submissions must refer to the docket number and title of the notice.

FOR FURTHER INFORMATION CONTACT: Ann vom Eigen, Grants Management and Oversight Division, Office of Strategic Planning and Management, Department of Housing and Urban Development, 451 Seventh St. SW, Room 3156, Washington, DC 20410 or by email Ann.H.vomEigen@hud.gov or telephone 202-402-2146. This is not a toll-free number. Persons with hearing or speech impairments may access this number through TTY by calling the toll-free Federal Relay Service at (800) 877-8339.

Copies of the proposed data collection form may be requested from Ms. Pollard.

SUPPLEMENTARY INFORMATION: This notice informs the public that the Department will submit the proposed information collection to OMB for review, as required by the Paperwork Reduction Act of 1995 (44 U.S.C. Chapter 35, as amended). HUD is seeking approval from OMB for the information collection described in Section A.

A. Overview of Information Collection

Title of Proposal: Accountability in the Provision of HUD Assistance “Applicant/Recipient Disclosure/Update Report”.

Type of Request: Extension of a currently approved collection.

OMB Control Number, if applicable: 2501-0032.

“Accountability in the Provision of HUD Assistance “Applicant/Recipient Disclosure/Update Report”(HUD 2880).

Description of the need for the information and proposed use: Section 102 of the Department of Housing and Urban Development Reform Act of 1989 (HUD Reform Act) requires the Department to ensure greater accountability and integrity in the provision of assistance administered by the Department. One feature of the statute requires certain disclosures by applicants seeking assistance from HUD, from states and units of local government, and for other assistance used to carry out activities funded with the assistance. The disclosure includes the financial interests of persons in the activities, the sources of funds to be made available for the activities, and the proposed uses of the funds.

Each applicant that submits an application for assistance, within the jurisdiction of HUD, to a state or to a unit of general local government for a specific project or activity must disclose this information whenever the dollar threshold is met. This information must be kept updated during the application review process and while the assistance is being provided.

Members of affected public: Applicants for HUD competitively funded assistance requiring a match must file this form. The form, HUD 2880, must be submitted as part of an applicant's application for competitively funded assistance for several programs which vary accoring to annual funding but can include the following:

• Section 202 Supportive Housing for the Elderly Program;

• Section 811 Supportive Housing for Persons with Disabilities program;

• Multifamily Service Coordinator Program;

• Self-Help Homeownership Program;

• Continuum of Care Program;

• Rural Capacity Building for Community Development;

• Community Compass Technical Assistance and Capacity Building Program;

• Research and Evaluation Notices of Funding Availability;

• Fair Housing Initiatives program;

• Youth Homeless Demonstration program;

• Healthy Homes and Lead Hazard programs;

• Family Supportive Services programs;

• Mainstream Voucher Program and Family Uniifcation Program; and

• Jobs Plus Program.

Estimation of the total numbers of hours needed to prepare the information collection including number of respondents, frequency of response, and hours of response: The form is used by entities when they apply for grants. As HUD receives roughly 14,000 applications on an annual basis, we expect that there will be 14,000 respondents who may need to use this form. HUD estimates that it will take two hours to complete the form, at $60.74 per hour.¹ The total estimated burden on respondents would thus reach $1,700,720 on an annual basis. This is shown in the following table.

¹ Estimated cost for respondents is calculated from the June 2018 Department of Labor Bureau of Labor Statistics report on Employer Costs for Employee Compensation determined that the hourly rate of management, professional and related wages and salaries averaged $41.71 per hour plus $19.03 per hour for fringe benefits for a total $60.74 per hour.

Form | Number of respondents | Frequency | Hours per respondent | Total hours | Total cost
2880 | 14,000 | 1.0 | 2.0 | 28,000 | $1,700,720

Estimation of the Cost to the Federal Government: The following table shows the estimated burden of Federal financial assistance review. HUD estimates the cost of the maximum burden on HUD staff would total at most $1,412,740.00. This estimate is based on the assumption that each form would be reviewed for one hour by a GS13 step 5 performing a review, and then by a GS 14 and a GS15 who will look at summary results on an annual basis.²

² Federal staff time is estimated for a GS-13 step 5 hourly rate at $52.66 per hour (from the Office of Personnel Management and the table with Washington-Baltimore-Arlington locality pay), plus 16% fringe benefit for a total of $61.08 per hour, as well as 15 minutes each for a GS 14 and a GS 15 based on similar calculations bringing the blended total to $100.91/hr.

Estimated Respondents | Frequency | Estimated number of responses | Estimated burden hours per review | Estimated burden hours per year | Total estimated burden ²
14,000 | 1 | 14,000 | 1.50 hrs. | 21,000 | $1,412,740.00

B. Solicitation of Public Comment

This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Authority: The Paperwork Reduction Act of 1995, 44 U.S.C. Chapter 35, as amended.

Dated: April 25, 2019.
Christopher Walsh,
Presidential Management Fellows, Office of Business Transformation.

[FR Doc. 2019-09239 Filed 5-3-19; 8:45 am]

BILLING CODE 4210-67-P